FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than August 31, 2007.

A. Federal Reserve Bank of Minneapolis (Jacqueline G. King, Community Affairs Officer) 90 Hennepin Avenue, Minneapolis, Minnesota 55480-0291:

1. First Trust Company of Onaga, N.A. FBO LeRoy Albjerg, IRA, Arden Hills, Minnesota; US Bancorp Piper Jaffray custodian FBO Harold Broman, Jr., North St. Paul, Minnesota; Larry Dunn, Stacy, Minnesota; and Diana Makens, Las Vegas, Nevada, to join an existing group acting in concert: Walter G. Fries, Wabasha, Minnesota; Raymond B. Pinson, Del Ray Beach, Florida; Kenneth D. Myers, Apple Valley, Minnesota; GLA Investments, L.L.C., Lakeville, Minnesota, Gary Anderson as general partner; AMSIE Enterprises, LLC, both of Minnetonka, Minnesota, Donald Eisma as general partner; Nancy Ludwig and Francis N. Ludwig; Richard B. Lambert, Jr., all of Apple Valley, Minnesota; Russell S. Sampson, Prior Lake, Minnesota; Curtis A. Sampson, Hector, Minnesota; Brett D. Reese, Northfield, Minnesota; S & L Investments, LLP, Bloomington, Minnesota, David Stueve as general partner; Savage Capitalists, LLP, both of Bloomington, Minnesota, David Stueve as general partner; Pershing LLC FBO Richard D. Estenson IRA, both of Northfield, Minnesota; Charles and Cindy Beske, both of Lakeville, Minnesota; and Brian Bauer, Garvin, Minnesota; to acquire voting shares of Access Bancshares, Inc., and thereby indirectly acquire voting shares of Access Bank, both of Champlin, Minnesota.

Board of Governors of the Federal Reserve System, August 13, 2007.
Jennifer J. Johnson,
Secretary of the Board.

[FR Doc. E7-16183 Filed 8-16-07; 8:45 am]

BILLING CODE 6210-01-S